COMMITTEE FOR PURCHASE FROM PEOPLE WHO ARE BLIND OR SEVERELY DISABLED

Proposed Information Collection Activities To Be Submitted to the Office of Management and Budget (OMB); Request for Comments; Annual Representations and Certification Form

AGENCY: Committee for Purchase From People Who Are Blind or Severely Disabled.

ACTION: Submission for Office of Management and Budget (OMB) Review; request for comments.

SUMMARY: Committee for Purchase From People Who Are Blind or Severely Disabled (Committee) is submitting to OMB for their review the collection of the Annual Representations and Certification Form as required by the Paperwork Reduction Act (44 U.S.C. Chapter 35). The agency's 60-day notice informing the public of the intent to replace the existing annual certifications (Committee forms 403 and 404) with the Representations and Certifications form was published in the Federal Register of May 15, 2015, in FR Doc. 2015-11754, on page 27930.

DATES: Interested persons are invited to submit comments about the collection on or before August 31, 2015.

ADDRESSES: Comments may be submitted, identified by the title of the information collection activity, to the Office of Information and Regulatory Affairs, ATTN: Ms. Jasmeet K. Seehra, OMB Desk Officer, by any of the following two methods within 30 days from the date of publication in the Federal Register: (1) FAX to: (202) 395-6974, ATTN: Ms. Jasmeet K. Seehra, OMB Desk Office; (2) Electronically by email to: Jasmeet_K._Seehra@omb.eop.gov.

FOR FURTHER INFORMATION CONTACT: Requests for copies of documents pertaining to the collection should be addressed to Committee for Purchase From People Who Are Blind or Severely Disabled, ATTN: Louis Bartalot, Director of Compliance, 1401 S. Clark Street, Suite 715, Arlington, VA 22202-4149 or emailed to rulescomment@abilityone.gov.

SUPPLEMENTARY INFORMATION: The Committee has two annual certification forms, one for nonprofit agencies serving people who are blind (Committee Form 403, OMB Control Number 3037-0001) and one for nonprofit agencies primarily serving people who have other severe disabilities (Committee Form 404, OMB Control Number 3037-0002). The information included on the forms is required to ensure that nonprofit agencies that participate in the Committee's Program meet the requirements of the Javits-Wagner-O'Day Act (JWOD), 41 U.S.C. 8105-8506. The Committee intends to combine the two current forms in a revised and expanded format, so that the Committee can continue to verify the appropriateness of nonprofit agencies that would like to participate in the AbilityOne Program.

In response to the agency's 60-day notice published in the Federal Register of May 15, 2015, in FR Doc. 2015-11754, on page 27930 (informing the public of the intent to revise and expand the current forms), a comment was received with concerns of the ability of board members to be able to certify the information being on the form, objecting to the use of the term competitive placements, objecting to the reference to 2 CFR part 230, and the accuracy of the burden estimate.

Title: Annual Representations and Certifications For AbilityOne Qualified Nonprofit Agency.

OMB Control Number: 3037-0013.

Form Number: Reps and Certs.

Description of Respondents: Nonprofit agencies serving people who are blind or significantly disabled that participate in the AbilityOne Program.

Annual Number of Respondents: About 570 nonprofit agencies serving people who are blind or significantly disabled will annually participate in the AbilityOne Program.

Total Annual Burden Hours: Burden is estimated to average 8 hours per respondent. Total annual burden is 4,560 hours. Note: this burden estimate is only for the reporting of information; a separate burden estimate exists for the recordkeeping requirement.

Barry S. Lineback,
Director, Business Operations.

[FR Doc. 2015-18852 Filed 8-3-15; 8:45 am]

BILLING CODE 6353-01-P